DEPARTMENT OF JUSTICE

Notice of Filing of Consent Decree Pursuant to the Clean Water Act (“CWA”)

Notice is hereby given that on April 20, 2011, a proposed Consent Decree in United States v. P4 Production L.L.C., No. 11-00166-REB, was lodged in the United States District Court for the District of Idaho. The Consent Decree settles the United States' claims alleged in the Complaint pursuant to Section 309 of the Clean Water Act (CWA), 33 U.S.C. 1319. The Complaint relates to P4's South Rasmussen Mine, which is in southeast Idaho about 20 miles northeast of Soda Springs. The Consent Decree requires payment of a civil penalty of $1,400,000. The Consent Decree also includes injunctive relief which requires P4 to prevent leachate and certain storm water from its waste rock from discharging to the downstream creek and wetland.

The Department of Justice will receive comments related to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. P4 Production L.L.C., No. 11-00166-REB (D. Idaho), Department of Justice Case Number 90-5-1-1-09868.

During the public comment period, the Consent Decree may be examined at the Office of the United States Attorney, District of Idaho, 800 Park Boulevard, Suite 600, Boise, Idaho. The Settlement Agreement may also be examined on the following Department of Justice Web site, http://www.justice.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.00 (25 cents per page reproduction cost) payable to the U.S. Treasury.

Robert E. Maher, Jr.,
Assistant Section Chief, Environmental Enforcement Section, Environment and Natural Resources Division.

[FR Doc. 2011-10071 Filed 4-26-11; 8:45 am]

BILLING CODE 4410-15-P